DEPARTMENT OF COMMERCE

National Oceanic and Atmospheric Administration

50 CFR Part 648

[Docket No. 000119014-0137-02; I.D. No. 112399C]

RIN 0648-AM48

Fisheries of the Northeastern United States; Summer Flounder, Scup, and Black Sea Bass Fisheries; 2000 Specifications; Correction

AGENCY: National Marine Fisheries Service (NMFS), National Oceanic and Atmospheric Administration (NOAA), Commerce.

ACTION: Correction.

SUMMARY: This document contains corrections to the DATES section of the 2000 specifications that was published on May 24, 2000.

FOR FURTHER INFORMATION CONTACT: Regina L. Spallone, Fisheries Policy Analyst, (978) 281-9221.

SUPPLEMENTARY INFORMATION:

Background

In the final rule implementing the 2000 annual specifications for summer flounder, scup, and black sea bass, the regulations were inadvertently made effective for the same time frame as the quotas (i.e., for the calendar year). The regulations were meant to remain effective until revised. This correction clarifies that the regulations are final, not temporary, regulations.

Correction

In FR Doc. 00-12993, published in the Federal Register issue of May 24, 2000, on page 33486, in column 2, correct the DATES caption to read as follows:

DATES: Effective 0001 hours, May 24, 2000, except that the quotas identified in the preamble are effective 0001 hours, May 24, 2000, through 2400 hours, December 31, 2000.

Classification

This action is required by 50 CFR part 648 and is exempt from review under E.O. 12866.

Authority: 16 U.S.C. 1801 et seq.

Dated: June 27, 2000.
Andrew A. Rosenberg,
Deputy Assistant Administrator for Fisheries, National Marine Fisheries Service.

[FR Doc. 00-16772 Filed 6-30-00; 8:45 am]

BILLING CODE 3510-22-F